DEPARTMENT OF ENERGY

Federal Energy Regulatory Commission

[Docket No. PF13-1-000]

Excelerate Liquefaction Solutions I, LLC; Lavaca Bay Pipeline System, LLC; Notice of Intent To Prepare an Environmental Impact Statement for the Planned Lavaca Bay LNG Project, Request for Comments on Environmental Issues, and Notice of Public Scoping Meeting

The staff of the Federal Energy Regulatory Commission (FERC or Commission) will prepare an environmental impact statement (EIS) that will discuss the environmental impacts of the Lavaca Bay LNG Project involving construction and operation of facilities by Excelerate Liquefaction Solutions I, LLC (ELS I) and Lavaca Bay Pipeline System, LLC (LBPS) (collectively referred to as ELS) in Calhoun and Jackson Counties, Texas. The Commission will use this EIS in its decision-making process to determine whether the project is in the public convenience and necessity.

This notice announces the opening of the scoping process the Commission will use to gather input from the public and interested agencies on the project. Your input will help the Commission staff determine what issues they need to evaluate in the EIS. Please note that the scoping period will close on April 4, 2013.

You may submit comments in written form or verbally. Further details on how to submit written comments are in the Public Participation section of this notice. In lieu of or in addition to sending written comments, the Commission invites you to attend the public scoping meeting scheduled as follows: FERC Public Scoping Meeting, Lavaca Bay LNG Project, March 21, 2013, 7:00 p.m. local time, Bauer Community Center, 2300 Texas 35, Port Lavaca, TX 77979, (361) 552-1234.

The project applicants will be available at the same location starting at 6:00 p.m. to answer questions.

This notice is being sent to the Commission's current environmental mailing list for this project. State and local government representatives should notify their constituents of this planned project and encourage them to comment on their areas of concern.

If you are a landowner receiving this notice, a pipeline company representative may contact you about the acquisition of an easement to construct, operate, and maintain the planned facilities. The company would seek to negotiate a mutually acceptable agreement. However, if the Commission approves the project, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically-asked questions, including the use of eminent domain and how to participate in the Commission's proceedings.

Involvement of the U.S. Department of Energy

The FERC is the lead federal agency in preparing the EIS to satisfy the requirements of the National Environmental Policy Act (NEPA). The U.S. Department of Energy (DOE), Office of Fossil Energy, has agreed to participate as a cooperating agency in the preparation of the EIS to satisfy its NEPA responsibilities.

Under section 3 of the Natural Gas Act of 1938, as amended (NGA), 15 U.S.C. 717b, DOE would authorize the export of natural gas, including liquefied natural gas (LNG), to countries with which the United States has not entered into a free trade agreement providing for national treatment for trade in natural gas, unless it finds that the proposed export will not be consistent with the public interest. For the Project, the purpose and need for DOE action is to respond to ELS I's application filed with DOE on October 5, 2012 (FE Docket No. 12-146-LNG), seeking authorization to export up to 10 million metric tons (equivalent to 1.33 billion standard cubic feet per day) of domestic natural gas as LNG for a 20-year period from the proposed ELS facilities in Calhoun County, Texas, commencing the earlier of the date of first export or seven years from the date that the requested authorization is issued. DOE authorization of ELS' application would allow the export of LNG to any country: (1) With which the United States does not have a free trade agreement requiring the national treatment for trade in natural gas; (2) that has, or in the future develops, the capacity to import LNG; and (3) with which trade is not prohibited by U.S. law or policy.

Summary of the Planned Project

ELS plans to develop, construct, and operate liquefied natural gas terminal facilities that include two purpose-built floating liquefaction, storage, and offloading units (FLSOs) and a 29-mile-long pipeline header system to transport natural gas from existing pipeline systems to the LNG terminal facilities. The Project would be constructed in two phases: Phase 1 would include a single FLSO with a storage capacity of about 250,000 cubic meters (m³) of LNG and the capacity to produce up to four million tons per annum (MTPA), nominally of natural gas. Phase 2 would include facilities to support a second FLSO that would double the production to eight MTPA, nominally.

The Lavaca Bay LNG Project would consist of the following facilities:

Marine Facilities:

• Two double-hulled, permanently moored, FLSOs, each containing 10 LNG storage tanks, four 1 MTPA PRICO system trains for liquefaction, centrifugal refrigerant compressors, and associated infrastructure;

• Mooring structures and fenders to provide support for the FLSOs and LNG carriers;

• A new 2,218-foot-diameter turning basin dredged to a depth of 45.5 feet below the site datum, located adjacent to the existing Matagorda Ship Channel;

• Two berthing pockets, each 450 feet wide by 1,310 feet long, dredged to a depth of 60.5 feet below the site datum; and

• A 3,200-foot-long jetty with two reinforced concrete decked piers located adjacent to the turning basins.

In addition, ELS would deepen and widen the Matagorda Ship Channel to a depth of −44 feet mean low tide and a channel bottom width up to 300 feet.

Shoreside Facilities:

• A pig ¹ launcher and receiver;

¹ A “pig” is a tool that the pipeline company inserts into and pushes through the pipeline for cleaning the pipeline, conducting internal inspections, or other purposes.

• Feed gas metering, compression, and pre-treatment;

• An inlet bulk separator;

• A condensate storage tank;

• A power generation system;

• A cooling water system and instrument air package;

• A cold vent/ground flare;

• A fire water system and water treatment plant; and

• Support buildings, including offices, control room, warehouse, and shop.

Pipeline Header System:

• A 29-mile-long, 42-inch-diameter natural gas pipeline extending northward from the shoreside facilities to nine natural gas interconnects southwest of Edna, Texas.

The general location of the project facilities is shown in appendix 1.²

² The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

The planned LNG terminal facilities (i.e., marine and shoreside facilities) would be constructed on about 85 acres of land. Of this amount, about 45 acres includes existing uplands and the remaining 40 acres would be created using dredge spoil from construction of the turning basin and two berthing pockets. Construction of the pipeline header system would require about 327 acres of land for construction and 164 acres for operation. The Project would also require approximately 150 additional acres for temporary use for construction laydown/staging areas and parking areas.

The EIS Process

NEPA requires the Commission to take into account the environmental impacts that could result from an action whenever it considers the issuance of a Certificate of Public Convenience and Necessity. NEPA also requires us ³ to discover and address concerns the public may have about proposals. This process is referred to as scoping. The main goal of the scoping process is to focus the analysis in the EIS on the important environmental issues. By this notice, the Commission requests public comments on the scope of the issues to address in the EIS. We will consider all filed comments during the preparation of the EIS.

³ “We,” “us,” and “our” refer to the environmental staff of the Commission's Office of Energy Projects.

In the EIS we will discuss impacts that could occur as a result of the construction and operation of the planned project under these general headings:

• Geology and soils;

• Water resources, fisheries, and wetlands;

• Vegetation and wildlife;

• Endangered and threatened species;

• Cultural resources;

• Land use;

• Socioeconomics;

• Air quality and noise;

• Reliability and safety;

• Engineering and design material; and

• Cumulative environmental impacts.

We will also evaluate possible alternatives to the planned project or portions of the project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the EIS.

The EIS will present our independent analysis of the issues. We will publish and distribute the draft EIS for public comment. After the comment period, we will consider all timely comments and revise the document, as necessary, before issuing a final EIS. To ensure we have the opportunity to consider and address your comments, please carefully follow the instructions in the Public Participation section beginning on page 7.

With this notice, we are asking agencies with jurisdiction by law and/or special expertise with respect to the environmental issues related to this project to formally cooperate with us in the preparation of the EIS ⁴. Agencies that would like to request cooperating agency status should follow the instructions for filing comments provided under the Public Participation section of this notice. Currently, DOE has expressed its intention to participate as a cooperating agency in the preparation of the EIS to satisfy its NEPA responsibilities related to this project. Also, in accordance with the 2004 Interagency Agreement on the safety and security review of waterfront import/export LNG facilities, the U.S. Coast Guard and U.S. Department of Transportation participate as cooperating agencies.

⁴ The Council on Environmental Quality regulations addressing cooperating agency responsibilities are at Title 40, Code of Federal Regulations, § 1501.6.

Consultations Under Section 106 of the National Historic Preservation Act

In accordance with the Advisory Council on Historic Preservation's implementing regulations for section 106 of the National Historic Preservation Act, we are using this notice to initiate consultation with applicable State Historic Preservation Office(s), and to solicit their views and those of other government agencies, interested Indian tribes, and the public on the project's potential effects on historic properties.⁵ We will define the project-specific Area of Potential Effects (APE) in consultation with the SHPO as the project develops. On natural gas facility projects, the APE at a minimum encompasses all areas subject to ground disturbance (examples include construction right-of-way, contractor/pipe storage yards, compressor stations, and access roads). Our EIS for this project will document our findings on the impacts on historic properties and summarize the status of consultations under section 106.

⁵ The Advisory Council on Historic Preservation regulations are at Title 36, Code of Federal Regulations, Part 800. Those regulations define historic properties as any prehistoric or historic district, site, building, structure, or object included in or eligible for inclusion in the National Register of Historic Places.

Currently Identified Environmental Issues

We have already identified several issues that we think deserve attention based on a preliminary review of the planned facilities and the environmental information provided by ELS. This preliminary list of issues may change based on your comments and our analysis. Issued identified include:

• Potential impacts on recreational fishing and aquatic resources in the Matagorda Ship Channel;

• Potential impacts to fish and wildlife habitat, including potential impacts to federally and state-listed threatened and endangered species;

• Potential impacts and potential benefits of construction workforce on local housing, infrastructure, public services, and economy;

• Potential visual effects on surrounding areas; and

• Public safety and hazards associated with the liquefaction and transport of LNG.

Public Participation

You can make a difference by providing us with your specific comments or concerns about the project. Your comments should focus on the potential environmental effects, reasonable alternatives, and measures to avoid or lessen environmental impacts. The more specific your comments, the more useful they will be. To ensure that your comments are timely and properly recorded, please send your comments so that the Commission receives them in Washington, DC on or before April 4, 2013. This is not your only public input opportunity; please refer to the Environmental Review Process flowchart in appendix 2.

For your convenience, there are three methods you can use to submit your comments to the Commission. In all instances, please reference the project docket number (PF13-1-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the planned project.

Copies of the completed draft EIS will be sent to the environmental mailing list for public review and comment. If you would prefer to receive a paper copy of the document instead of the CD version or would like to remove your name from the mailing list, please return the attached Information Request (appendix 3).

Becoming an Intervenor

Once ELS files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the project.

Additional Information

Additional information about the project is available from the Commission's Office of External Affairs, at (866) 208-FERC, or on the FERC Web site (www.ferc.gov) using the eLibrary link. Click on the eLibrary link, click on “General Search” and enter the docket number, excluding the last three digits in the Docket Number field (i.e., PF13-1-000). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Finally, public meetings or site visits will be posted on the Commission's calendar located at www.ferc.gov/EventCalendar/EventsList.aspx along with other related information.

Dated: March 5, 2013.
Kimberly D. Bose,
Secretary.

[FR Doc. 2013-05620 Filed 3-11-13; 8:45 am]

BILLING CODE 6717-01-P